DEPARTMENT OF THE INTERIOR

Bureau of Land Management

[LLMT926000-10-L19100000-BJ0000-LRCM07RE4030]

Notice of Filing of Plats of Survey; Montana

AGENCY: Bureau of Land Management, Interior.

ACTION: Notice of filing of plats of survey.

SUMMARY: The Bureau of Land Management (BLM) will file the plat of survey of the lands described below in the BLM Montana State Office, Billings, Montana, thirty (30) days from the date of publication in the Federal Register.

FOR FURTHER INFORMATION CONTACT: Steve Toth, Cadastral Surveyor, Branch of Cadastral Survey, Bureau of Land Management, 5001 Southgate Drive, Billings, Montana 59101-4669, telephone (406) 896-5121 or (406) 896-5009.

SUPPLEMENTARY INFORMATION: This survey was executed at the request of the Superintendent, Fort Peck Agency, through the Rocky Mountain Regional Director, Bureau of Indian Affairs, and was necessary to determine boundaries of trust or tribal interest lands.

The lands we surveyed are:

Principal Meridian, Montana

T. 26 N., R. 44 E.

The plat, in 3 sheets, representing the dependent resurvey of portions of the north boundary, the subdivisional lines, the subdivision of sections 1, 2, 3, and 10, the adjusted original meanders of the left bank of the Missouri River, downstream, through sections 2, 3, 10, and 15, and the adjusted 2006 meanders of the left bank of the Missouri River and the adjusted 2006 left bank of a relicted channel of the Missouri River, downstream, through sections 10 and 15, the subdivision of sections 1, 2, 3, and 10, and the survey of the meanders of the present left bank of the Missouri River, downstream, through sections 2, 3, and 10, the left bank of a relicted channel of the Missouri River, downstream, through section 2, two medial lines of a relicted channel of the Missouri River, certain division of accretion lines and partition lines, two metes and bounds descriptions of a warranty deed, now designated as Parcel A and B, in section 2, and an attached island, now designated as Tract 37, Township 26 North, Range 44 East, of the Principal Meridian, Montana, was accepted July 2, 2010.

We will place a copy of the plat, in 3 sheets, and related field notes we described in the open files. They will be available to the public as a matter of information. If the BLM receives a protest against this survey, as shown on this plat, in 3 sheets, prior to the date of the official filing, we will stay the filing pending our consideration of the protest. We will not officially file this plat, in 3 sheets, until the day after we have accepted or dismissed all protests and they have become final, including decisions or appeals.

Authority: 43 U.S.C. Chap. 3.

Dated: July 12, 2010.
James D. Claflin,
Chief Cadastral Surveyor, Division of Resources.

[FR Doc. 2010-17563 Filed 7-16-10; 8:45 am]

BILLING CODE 4310-DN-P